DEPARTMENT OF TRANSPORTATION

Coast Guard

[USCG-2003-14378]

Towing Safety Advisory Committee

AGENCY: Coast Guard, DOT.

ACTION: Notice of meeting; correction of dates.

SUMMARY: The Coast Guard published a notice in the Federal Register on February 4, 2003 announcing a 2-day meeting of the Towing Safety Advisory Committee's (TSAC) Working Group on Maritime Security. The notice should have been for one date, February 19, 2003. This notice removes the incorrect date.

DATES: This correction is effective February 12, 2003. The TSAC Working Group will meet on Wednesday, February 19, 2003, from 10 a.m. to 4 p.m.

FOR FURTHER INFORMATION CONTACT: Mr. Gerald P. Miante, Assistant Executive Director of TSAC, telephone 202-267-0214, or fax 202-267-4570, or e-mail at: gmiante@comdt.uscg.mil.

SUPPLEMENTARY INFORMATION: The Coast Guard published a document in the Federal Register on February 4, 2003, (68 FR 5690) announcing a meeting of the Towing Safety Advisory Committee (TSAC) Working Group on Maritime Security. We listed two dates for the meeting in the notice. The TSAC Working Group will only meet on February 19, 2003. This correction removes the incorrect date.

In notice FR Doc. No. 03-2522 published on February 4, 2003, (68 FR 5690) make the following correction:

On page 5690, in the third column, starting on line 1, remove the first sentence in the DATES section, and add, in its place, the sentence “The TSAC Working Group on Maritime Security will meet on Wednesday, February 19, 2003, from 10 a.m. to 4 p.m.”

Dated: February 12, 2003.
Howard L. Hime,
Acting Director of Standards, Marine Safety, Security and Environmental Protection.

[FR Doc. 03-3459 Filed 2-11-03; 8:45 am]

BILLING CODE 4910-15-P